DEPARTMENT OF LABOR

Bureau of Labor Statistics

Intent To Renew the Bureau of Labor Statistics Technical Advisory Committee

The Secretary of Labor is announcing the intent to renew a Federal Advisory Committee. In accordance with the provisions of the Federal Advisory Committee Act (FACA), 5 U.S.C. App. 2, the Secretary of Labor has determined that the renewal of the Bureau of Labor Statistics Technical Advisory Committee (the “Committee”) is in the public interest in connection with the performance of duties imposed upon the Commissioner of Labor Statistics by 29 U.S.C. 1 and 2. This determination follows consultation with the Committee Management Secretariat, General Services Administration.

The Committee presents advice and makes recommendations to the Bureau of Labor Statistics (BLS) on technical aspects of the collection and formulation of economic measures.

The Committee functions solely as an advisory body to the BLS, on technical topics selected by the BLS. Important aspects of the Committee's responsibilities include, but are not limited to:

a. Provide comments on papers and presentations developed by BLS research and program staff. The comments will address the technical soundness of the research and whether it reflects best practices in the relevant fields.

b. Recommend that BLS conduct research projects to address technical problems with BLS statistics that have been identified in the academic literature.

c. Participate in discussions of areas where the types or coverage of economic statistics could be expanded or improved and areas where statistics are no longer relevant.

The Committee reports to the Commissioner of Labor Statistics, Bureau of Labor Statistics, U.S. Department of Labor.

The Committee consists of approximately sixteen members who serve as Special Government Employees. Members are appointed by the BLS and are approved by the Secretary of Labor. Committee members are economists, statisticians, and behavioral scientists and are chosen to achieve a balanced membership across those disciplines. They are prominent experts in their fields and recognized for their professional achievements and objectivity.

The Committee will function solely as an advisory body, in compliance with the provisions of the Federal Advisory Committee Act. The Charter will be filed under the Federal Advisory Committee Act.

FOR FURTHER INFORMATION CONTACT: Lisa Fieldhouse, Office of the Commissioner, Bureau of Labor Statistics, telephone: 202-691-5025, email: fieldhouse.lisa@bls.gov.

Signed at Washington, DC, this 12th day of September 2016.
Kimberley D. Hill,
Chief, Division of Management Systems, Bureau of Labor Statistics.

[FR Doc. 2016-22309 Filed 9-15-16; 8:45 am]

BILLING CODE 4510-24-P